OFFICE OF GOVERNMENT ETHICS

Agency Information Collection Activities; Information Collection Renewal; Comment Request for Qualified Trust Model Certificates and Model Trust Documents

AGENCY: Office of Government Ethics (OGE).

ACTION: Notice of request for agency and public comments.

SUMMARY: After this first round notice and public comment period, the U.S. Office of Government Ethics (OGE) plans to request that the Office of Management and Budget (PMB) renew its approval under the Paperwork Reduction Act for an existing information collection consisting of twelve model certificates and model documents for qualified trusts.

DATES: Written comments by the public and the agencies on this proposed extension are invited and must be received on or before August 4, 2025.

ADDRESSES: Comments may be submitted to OGE by any of the following methods:

Email: usoge@oge.gov (Include reference to “OGE qualified trust model certificates and model trust documents paperwork comment” in the subject line of the message.)

Mail: Office of Government Ethics, 250 E Street SW, Suite 750, Attention: Jennifer Matis, Associate Counsel, Washington, DC 20005-3917.

Instructions: Comments may be posted on OGE's website, www.oge.gov. Sensitive personal information, such as account numbers or Social Security numbers, should not be included. Comments generally will not be edited to remove any identifying or contact information.

FOR FURTHER INFORMATION CONTACT: Jennifer Matis at the U.S. Office of Government Ethics; telephone: 202-482-9216; TTY: 800-877-8339; Email: jmatis@oge.gov. Copies of the model documents as currently approved are available on OGE's website, www.oge.gov.

SUPPLEMENTARY INFORMATION:

Title: Executive Branch Qualified Trust Documents.

Type of Information Collection: Extension of a currently approved collection.

Type of Review Request: Regular.

Respondents: Any current or prospective executive branch officials who seek to establish or have established a qualified blind or diversified trust under the Ethics in Government Act of 1978 to avoid conflicts of interest while in office.

Estimated Average Annual Number of Respondents: 2.

Total Estimated Time per Response: 20 minutes to 100 hours (see table below for detailed explanation).

Estimated Average Total Annual Burden: 120 hours.

OMB Control Number: 3209-0007.

Abstract: OGE is the supervising ethics office for the executive branch of the Federal Government under the Ethics in Government Act of 1978 (EIGA). Accordingly, OGE administers the qualified trust program for the executive branch. Presidential nominees to executive branch positions subject to Senate confirmation and any other executive branch officials may seek OGE approval for EIGA-qualified blind or diversified trusts as one means to avoid conflicts of interest. The requirements for EIGA-qualified blind and diversified trusts are set forth in section 13104(f) of the Ethics in Government Act, 5 U.S.C. 13104(f), and OGE's implementing financial disclosure regulations at subpart D of 5 CFR part 2634.

In order to ensure that all applicable requirements are met, OGE is the sponsoring agency for twelve model certificates and model trust documents for qualified blind and diversified trusts. See 5 CFR 2634.402(e)(3), 2634.402(f)(3), 2634.404(e) through (g), 2634.405(d)(2), 2634.407(a); 2634.408(b)(1) through (3), 2634.408(d)(4), 2634.409, and 2634.414. The various model certificates and model trust documents are used by settlors, trustees, and other fiduciaries in establishing and administering these qualified trusts. OGE plans to submit these model certificates and model trust documents (described in detail in the table below) to OMB for renewed approval pursuant to the Paperwork Reduction Act of 1995, 44 U.S.C. chapter 35.

The twelve model documents, along with their burden estimates, are as follows:

Model qualified trust documents | Estimated burden
(A) Blind Trust Communications (Expedited Procedure for Securing Approval of Proposed Communications) | 20 minutes per communication.
(B) Model Qualified Blind Trust Provisions | 100 hours per model.
(C) Model Qualified Diversified Trust Provisions | 100 hours per model.
(D) Model Qualified Diversified Trust Provisions (For Use in the Case of Multiple Fiduciaries) | 100 hours per model.
(E) Model Qualified Blind Trust Provisions (For Use in the Case of an Irrevocable Pre-Existing Trust) | 100 hours per model.
(F) Hybrid Version of the Model Qualified Diversified Trust Provisions | 100 hours per model.
(G) Model Qualified Blind Trust Provisions (For Use in the Case of Multiple Fiduciaries) | 100 hours per model.
(H) Model Qualified Diversified Trust Provisions (For Use in the Case of an Irrevocable Pre-Existing Trust) | 100 hours per model.
(I) Model Confidentiality Agreement Provisions (For Use in the Case of a Privately Owned Business) | 2 hours per agreement.
(J) Model Confidentiality Agreement Provisions (For Use in the Case of Investment Management Activities) | 2 hours per agreement.
Model Trust Certificates
(K) Certificate of Independence | 20 minutes per certificate.
(L) Certificate of Compliance | 20 minutes per certificate.

These estimates are based on the amount of time imposed on professional trust administrators or private representatives. OGE notes that only one set of the various model trust provisions (items (B) through (H)) will be prepared for a single qualified trust, and only prior to the establishment of that qualified trust. Likewise, other model documents listed above are used in connection with establishing the qualified trust (items (I), (J), and (K)). The remaining model documents are used after the trust's creation (items (A) and (L)). Accordingly, OGE notes that the majority of the time burden for any given trust is imposed during the creation of the trust.

At the present time, there are no active qualified trusts in the executive branch. However, OGE anticipates possible limited use of these model documents during the forthcoming three-year period. OGE estimates that there may be an average of one individual per year who initiates a qualified trust using these model documents during calendar years 2026 through 2028. OGE has accordingly estimated the average annual number of respondents to be two, which represents one respondent establishing a qualified trust and one respondent maintaining a previously established qualified trust. Based on the above, OGE estimates an average annual time burden during the next three years of 120 hours. Using an estimated rate of $300 per hour for the services of a professional trust administrator or private representative, the estimated annual cost burden is $36,000.

Under OMB's implementing regulations for the Paperwork Reduction Act, any recordkeeping, reporting, or disclosure requirement contained in a rule of general applicability is deemed to involve ten or more persons. See 5 CFR 1320.3(c)(4)(i). OGE intends to submit all twelve qualified trust model certificates and model documents described above (all of which are included under OMB paperwork control number 3209-0007) for a three-year extension of approval without modification.

Request for Comments: Agency and public comments are invited specifically on the need for and practical utility of this information collection, on the accuracy of OGE's burden estimate, on the enhancement of quality, utility, and clarity of the information collected, and on minimizing the burden to the public. Comments received in response to this notice will be summarized for, and may be included with, the OGE request for extension of OMB approval. The comments will also become a matter of public record.

Specifically, OGE seeks public comment on the following:

• Do the model qualified blind trusts provide sufficient direction to establish a trust under the Qualified Trust Program? If not, what provisions could be clearer or what language should be changed?

• Do the model qualified diversified trusts provide sufficient direction to establish a trust under the Qualified Trust Program? If not, what provisions could be clearer or what language should be changed?

• Do the Additional Trust Documents provide sufficient information for individuals to comply with the logistical requirements (e.g., procedure for securing approval of proposed communications) of the Qualified Trust Program? If not, what provisions could be clearer or what language should be changed?

Approved: May 28, 2025.
Shelley K. Finlayson,
Chief of Staff and Program Counsel, Office of Government Ethics.

[FR Doc. 2025-10211 Filed 6-4-25; 8:45 am]

BILLING CODE 6345-04-P